DEPARTMENT OF COMMERCE

Census Bureau

Agency Information Collection Activities; Submission to the Office of Management and Budget (OMB) for Review and Approval; Comment Request; Certification of Identity (Form BC-300)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. This notice allows 30 days for public comments.

Agency: U.S. Census Bureau, Commerce.

Title: Certification of Identity (Form BC-300).

OMB Control Number: 0607-XXXX.

Form Number(s): Form BC-300.

Type of Request: Emergency submission, New Information Collection Request.

Number of Respondents: 250.

Average Hours per Response: 6 minutes.

Burden Hours: 25 Hours.

Needs and Uses: The need for the Certification of Identity (Form BC-300) is imperative to performing accurate controls of the disbursement of personnel records to the public. This information collection is necessary to prevent unauthorized disclosure of records of individuals maintained by the U.S. Census Bureau, and allows parties who are, or were, in proceedings to disclose or release their records to an attorney, accredited representative, qualified organization, or other third party.

Affected Public: Individuals requesting the release of personnel records.

Frequency: On an as needed basis.

Respondent's Obligation: Voluntary.

Legal Authority: In accordance with 15 CFR Section 4.24(d), the U.S. Census Bureau requires you provide us with sufficient information to identify you when you submit requests by mail or otherwise not in person under the Privacy Act of 1974, 5 U.S.C. 552a.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2021-26557 Filed 12-7-21; 8:45 am]

BILLING CODE 3510-07-P